SMALL BUSINESS ADMINISTRATION

Reporting Requirements Submitted for OMB Review

AGENCY: Small Business Administration.

ACTION: Notice of Reporting Requirements Submitted for OMB Review; Correction.

SUMMARY: The Small Business Administration published a document in the Federal Register of August 10, 2009, concerning Reporting and Recordkeeping Requirements. The document contained an incorrect title.

FOR FURTHER INFORMATION CONTACT: Curtis Rich, 202-205-7030.

Correction

In the Federal Register of August 10, 2009, FR document E9-19013, Volume 74, Number 152, page 39991, under the SUPPLEMENTARY INFORMATION “Title” should read:

SUPPLEMENTARY INFORMATION: Title: Information for Small Business Size Determination.

Dated: August 10, 2009.
Curtis B. Rich,
Acting, Chief Administrative Information Branch.

[FR Doc. E9-19491 Filed 8-13-09; 8:45 am]

BILLING CODE 8025-01-P